DEPARTMENT OF THE INTERIOR

Bureau of Indian Affairs

Indian Gaming

AGENCY: Bureau of Indian Affairs, Interior.

ACTION: Notice of Deemed Approved Tribal-State Class III Gaming Compact.

SUMMARY: This notice publishes the Approval of the Tribal-State Compact between the State of California and the Yurok Tribe.

EFFECTIVE DATE: November 2, 2007.

FOR FURTHER INFORMATION CONTACT: George T. Skibine, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2710, the Secretary of the Interior shall publish in the Federal Register notice of approved Tribal-State compacts for the purpose of engaging in Class III gaming activities on Indian lands.

The compact allows for two gaming facility and authorizes up to 99 gaming devices and any devices or games authorized under State law to the State lottery. Finally, the term of the compact is until December 31, 2025. The Assistant Secretary—Indian Affairs, Department of the Interior, through his delegated authority, is publishing notice that the Tribal-State Compact between the State of California and the Yurok Tribe is now in effect.

Dated: October 24, 2007.
Carl J. Artman,
Assistant Secretary—Indian Affairs.

[FR Doc. E7-21624 Filed 11-1-07; 8:45 am]

BILLING CODE 4310-4N-P